DEPARTMENT OF THE INTERIOR

Bureau of Land Management

[LLCA930; CACA 032220]

Notice of Application for Withdrawal Extension and Opportunity for Public Meeting, California

AGENCY: Bureau of Land Management, Interior.

ACTION: Notice.

SUMMARY: The United States Forest Service (USFS) has filed an application with the Bureau of Land Management (BLM) requesting that the Secretary of the Interior extend the duration of the withdrawal created by Public Land Order (PLO) No. 7179 for an additional 20-year term. PLO No. 7179 withdrew 45 acres of National Forest System land from location and entry under the United States mining laws, but not from leasing under the mineral leasing laws, to protect the seismic integrity of the University of California—Berkeley Seismic Observatory located in Siskiyou County, California. The withdrawal created by PLO No. 7179 will expire on January 24, 2016, unless extended. This notice provides an opportunity to comment on the withdrawal extension application and to request a public meeting.

DATES: Comments and requests for a public meeting must be received by April 14, 2015.

ADDRESSES: Comments and requests for a public meeting must be sent to the California State Director, Bureau of Land Management, 2800 Cottage Way, W-1928, Sacramento, CA 95814.

FOR FURTHER INFORMATION CONTACT: Elizabeth Easley, BLM California State Office, 916-978-4673 or David Betz, Klamath National Forest Headquarters, 530-842-6131, during regular business hours: 8:00 a.m. to 4:30 p.m., Monday through Friday, except holidays. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The USFS has filed an application requesting that the Secretary of the Interior extend PLO No. 7179 (61 FR 2137, January 25, 1996), which withdrew 45 acres of land in the Klamath National Forest, Siskiyou County, California, from location and entry under the United States mining laws (30 U.S.C. Ch. 2), but not from leasing under the mineral leasing laws, for an additional 20-year term, subject to valid existing rights. PLO No. 7179 is incorporated herein by reference.

The purpose of the withdrawal is to protect the seismic integrity of a University of California—Berkeley Seismic Observatory.

The use of a right-of-way, interagency agreement, or cooperative agreement would not adequately constrain non-discretionary uses and would not provide adequate protection for the improvements located on the lands.

There are no suitable alternative sites with equal or greater benefit to the government.

No water rights are required to fulfill the purpose of the requested withdrawal extension.

Records relating to the application may be examined by contacting the BLM-California State Office, Public Room at the above address.

For a period until April 14, 2015, all persons who wish to submit comments, suggestions, or objections in connection with the proposed withdrawal extension may present their views in writing to the BLM California State Office at the address listed above. Before including your address, phone number, email address, or other personal identifying information in your comment, you should be aware that your entire comment—including your personal identifying information—may be made publicly available at any time. If you are submitting comments as an individual you may request confidentiality by asking us in your comment to withhold your personal identifying information from public review; however, we cannot guarantee that we will be able to do so.

Notice is also hereby given that the opportunity for a public meeting is afforded in connection with the withdrawal extension application. All interested parties who desire a public meeting on the withdrawal extension application must submit a written request to BLM California State Office at the address listed above by April 14, 2015. If it is determined that a public meeting will be held, a notice will be published to announce the time and place in the Federal Register and a local newspaper at least 30 days before the scheduled date of the meeting.

This withdrawal extension proposal will be processed in accordance with the applicable regulations set forth in 43 CFR 2310.4.

Authority: 43 CFR 2310.3-1.

Sandra McGinnis,
Acting Associate Deputy State Director, Natural Resources.

[FR Doc. 2015-00420 Filed 1-13-15; 8:45 am]

BILLING CODE 4310-40-P